DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 5, 2006.

Title, Form, and OMB Number: Transportation Discrepancy Report; DD Form 361; OMB Control Number 0702-TBD.

Type of Request: New.

Number of Respondents: 1,434.

Responses per Respondent: 1.

Annual Responses: 1,434.

Average Burden per Response: 1 hour.

Annual Burden Hours: 1,434.

Needs and Uses: The DoD Form 361 is essential for documenting any loss, damage, or other discrepancy which may result from the movement of Government freight by commercial transportation companies (carriers). The form is ordinarily completed by personnel working for the Federal agency for which the transportation service is provided. However, in a small minority of cases (approximately 25%), contractor personnel acting for the government may be required to complete the form.

Affected Public: Business or other for-profit; Federal Government.

Frequency: On occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

DOD Clearance Officer: Ms. Patricia Toppings.

Written requests for copies of the information collection proposal should be sent to Ms. Toppings, WHS/ESD/Information Management Division, 1777 North Kent Street, RPN, Suite 11000, Arlington, VA 22209-2133.

Dated: November 30, 2005.
Patricia L. Toppings,
Alternate OSD Federal Register Liaison Officer, Department of Defense.

[FR Doc. 05-23671 Filed 12-5-05; 8:45 am]

BILLING CODE 5001-06-M